DEPARTMENT OF THE INTERIOR

National Park Service

[N6941; NPS-WASO-NAGPRA-NPS0042048; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain cultural items that meet the definition of sacred objects and that have a cultural affiliation with the Indian Tribes or Native Hawaiian organizations in this notice.

DATES: Repatriation of the cultural items in this notice may occur on or after March 25, 2026.

ADDRESSES: Send additional, written requests for repatriation of the cultural items in this notice to Julia Cronin, Turtle Bay Exploration Park, 844 Sundial Bridge Drive, Redding, CA 96001, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of two cultural items have been requested for repatriation. The two sacred objects are a medium twined basket bowl and a medium winnowing tray. The twined basket bowl is constructed using multiple colors of alder-dyed bracken fern forming a design of three diagonal bands. A full twist overlay displays part of the pattern on the interior. The basket bowl was donated to TBEP by Carolyn Bond and is culturally attributed as Whilkut.

The winnowing tray (circa 1900) is constructed of pine root and bear grass with a single face overlay twining technique. It features a light pattern on a brown background showing signs of wear consistent with age and use. The tray was purchased by the Redding Museum and Art Center, TBEP's predecessor institution, from Don Boyd. The tray is culturally attributed as Lassic or Waliki.

The Bear River Band of Rohnerville Rancheria is a Federally recognized Indian Tribe whose membership includes individuals from the Bear River, Lassic, Mattole, Sinkyone, Whilkut, Nongatl, Waliki, and Wiyot Tribes. The ancestral territory of the Bear River Band of the Rohnerville Rancheria spans approximately 2,800 square miles across portions of Humboldt, Mendocino, and Trinity counties in Northern coastal California, including the watersheds of the Van Duzen, Mattole, Bear River, and Eel River. Following consultation with Tribal officials and review of available museum records and documentation, TBEP determined that the basket bowl is of Whilkut origin and craftsmanship and that the winnowing tray is of Lassic or Waliki origin and craftsmanship, cultures represented within the membership of the Bear River Band of the Rohnerville Rancheria.

Turtle Bay Exploration Park does not treat Indigenous belongings with hazardous materials. However, available documentation does not indicate whether these items were treated prior to entering the care of the Redding Museum and Art Center.

Determinations

Turtle Bay Exploration Park has determined that:

• The two sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Bear River Band of the Rohnerville Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, Turtle Bay Exploration Park must determine the most appropriate requestor prior to repatriation. Requests for joint repatriation of the cultural items are considered a single request and not competing requests. Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03565 Filed 2-20-26; 8:45 am]

BILLING CODE 4312-52-P